DEPARTMENT OF AGRICULTURE

Agricultural Marketing Service

[Doc. No. AMS-FGIS-21-0010]

United States Standards for Sorghum

AGENCY: Agricultural Marketing Service, USDA.

ACTION: Final notice.

SUMMARY: This action is being taken under the authority of the United States Grain Standards Act, as amended, (USGSA). The United States Department of Agriculture's (USDA) Agricultural Marketing Service (AMS) is making no changes regarding the United States (U.S.) Standards for Sorghum under the USGSA.

DATES: Applicability date: Upon Publication in the Federal Register.

FOR FURTHER INFORMATION CONTACT: Loren Almond, USDA AMS; Telephone: (816) 702-3925; email: Loren.L.Almond@usda.gov.

SUPPLEMENTARY INFORMATION: Section 4 of the USGSA (7 U.S.C. 76(a)) grants the Secretary of Agriculture the authority to establish standards for sorghum and other grains regarding kind, class, quality, and condition. AMS published a Notice in the Federal Register on March 26, 2021 (86 FR 16181), inviting interested parties to comment on whether current sorghum standards and grading practices needed to be amended.

AMS received a total of two comments on the U.S. Standards for Sorghum. AMS received one comment from the national commodity organization representing sorghum producers stating that producers were satisfied that current standards were working for the market and recommended AMS make no changes to standards. Additionally, the comment recommended three areas that producers might wish to engage in discussions with AMS in the future. These areas were: Potential for new sorghum classes; research to develop an electronic odor determination instrument; and changing the unit of measurement for sorghum from hundred weights to bushels. AMS received a joint comment from two organizations representing grain elevator operators that stated the standards were meeting the needs of the market and did not need amendment. The joint comment concurred with the national commodity organization's position on future research areas. AMS welcomes the opportunity to engage with stakeholders on these matters.

Final Action

Based on the comments received, AMS is making no changes to the U.S Standards for Sorghum at this time.

Authority: 7 U.S.C. 71-87k.

Bruce Summers,
Administrator, Agricultural Marketing Service.

[FR Doc. 2021-18319 Filed 8-24-21; 8:45 am]

BILLING CODE 3410-02-P